NUCLEAR REGULATORY COMMISSION

[Docket No. 50-336]

Northeast Nuclear Energy Company; Notice of Consideration of Issuance of Amendment to Facility Operating License, Proposed No Significant Hazards Consideration Determination, and Opportunity for a Hearing

The U.S. Nuclear Regulatory Commission (the Commission) is considering issuance of an amendment to Facility Operating License No. DPR-65 issued to Northeast Nuclear Energy Company (NNECO/the licensee) for operation of the Millstone Nuclear Power Station, Unit No. 2 (MNPS-2) located in New London County, Connecticut.

The proposed amendment would change the Technical Specification (TSs) and Bases Sections associated with the requirements for the Reactor Coolant System (RCS) loops and Shutdown Cooling (SDC) System trains during all modes of plant operation. Many of the proposed changes are associated with the format and structure of the affected TSs and will not result in any technical changes to the current requirements. The proposed format changes will result in TSs that are clear, concise, and easier for the Control Room operators to use. Some of the changes are proposed to achieve consistency with the Standard TSs for Combustion Engineering Plants in NUREG-1432, Rev. 1. The Bases for the TSs would also be revised to reflect the proposed changes.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Involve a significant increase in the probability or consequences of an accident previously evaluated.

The proposed Technical Specification changes are associated with the requirements for the RCS loops and SDC trains during all modes of plant operation. These systems provide for the transportation of heat from the reactor core to a heat sink. The proposed changes will not adversely affect power operation, and will ensure that two methods of decay heat removal are available when the plant is shut down. These specifications include requirements for various equipment, based on plant conditions, and provide appropriate actions to take if the required equipment is not available. This ensures the equipment necessary to mitigate the design basis accidents is available and functioning as assumed, or plant operation is limited accordingly.

Standardizing the terminology, format, and numbering of the Technical Specifications, adding or correcting amendment numbers, changing the action statements to be consistent with the proposed changes to the LCO [limiting condition for operation], removal of extraneous information from various SRs [surveillance requirements], and transferring information from the LCO to the associated Technical Specification Bases are non-technical changes that will not affect any of the current requirements.

The operation of, and requirements for, the equipment covered by the affected Technical Specifications will remain essentially the same. In Modes 1 and 2, the proposed requirements are more restrictive in that the two RCS loops must be operable in addition to being in operation. In Modes 3 (RCS loops) and 4 (RCS loops and SDC trains), the requirements remain the same. In Mode 5, the requirements will be separated into two specifications based on the status of the RCS loops. If the RCS loops are filled, two SDC trains will be required unless both steam generators (instead of one) have sufficient inventory. RCPs [reactor coolant pumps] will no longer be required. If the RCS loops are not filled, two SDC trains will be required. These are not significant changes to the Mode 5 requirements. In Mode 6, the SDC train requirements are more restrictive since both SDC trains will be required unless the refueling cavity is filled to at least 23 feet above the reactor vessel flange.

Changes to the action statements will be made based on the proposed changes to the LCOs. If the required equipment is not operable, the proposed action requirements will require timely restoration of the equipment, or the plant will be placed in a configuration where there is no adverse impact associated with the inoperable equipment. The changes to the action statements will also address additional combinations of inoperable equipment. The allowed outage times provide a reasonable time for repairs before requiring a plant shutdown to a lower mode, as applicable. The shutdown times will allow an orderly shutdown, as applicable, to be performed. Surveillance requirements will be added or modified as appropriate based on the changes to the LCOs. This will ensure the required equipment is operable. Additional restrictions will be placed on plant operation to properly control various evolutions when the plant is shutdown. These additional restrictions (e.g., how often the RCPs and SDC pumps can be secured) provide sufficient administrative control to ensure safe operation of the plant.

The proposed changes will have no adverse effect on plant operation, or the availability or operation of any accident mitigation equipment. The plant response to the design basis accidents will not change. In addition, the proposed changes can not cause an accident. Therefore, there will be no significant increase in the probability or consequences of an accident previously evaluated.

2. Create the possibility of a new or different kind of accident from any accident previously evaluated.

The proposed Technical Specification changes will not alter the plant configuration (no new or different type of equipment will be installed) or require any new or unusual operator actions. They do not alter the way any structure, system, or component functions and do not significantly alter the manner in which the plant is operated. The proposed changes do not introduce any new failure modes. Also, the response of the plant and the operators following these accidents is unaffected by the changes. Therefore, the proposed changes will not create the possibility of a new or different kind of accident from any accident previously evaluated.

3. Involve a significant reduction in a margin of safety.

The proposed Technical Specification changes are associated with the requirements for the RCS loops and SDC trains during all modes of plant operation. These systems provide for the transportation of heat from the reactor core to a heat sink. The specifications associated with these systems include requirements for various equipment, based on plant conditions, and provide appropriate actions to take if the required equipment is not available. This will ensure that the equipment necessary to mitigate the design basis accidents is available and functioning as assumed, or plant operation is limited accordingly.

The proposed changes will result in Technical Specifications that are clear, concise, and easier for the plant operators to use. The format, structure and technical content of the affected specifications is consistent with current industry guidance as contained in NUREG-1432, with the exception of the third note to the LCO for Technical Specification 3.9.8.1. This note, which will allow the SDC pumps to be removed from operation, will provide additional operational flexibility to perform work that is currently done during plant heatup after the SDC trains have been removed from service, and to perform work on the valves located in the common SDC suction line. However, the restrictions on what work can be performed utilizing the provisions of this note, the plant conditions that must first be established, and the required management review of the planned plant evolution will ensure plant safety is maintained.

The proposed changes to the Technical Specifications are consistent with the Millstone Unit No. 2 design basis accident analyses. This will ensure the analyses remains valid, and the consequences of the accidents are acceptable. They will provide the necessary control to ensure the required plant conditions are established and the required plant equipment is available. If the required equipment is not operable, the proposed action requirements will require timely restoration of the equipment or the plant will be placed in a configuration where there is no adverse impact associated with the inoperable equipment. The proposed allowed outage times provide a reasonable time for repairs before requiring a plant shutdown, as applicable, and reflect the low probability of an event occurring while the equipment is inoperable. The proposed shutdown times will allow an orderly shutdown, as applicable, to be performed. The proposed allowed outage times and shutdown times are consistent with times already contained in the Millstone Unit No. 2 Technical Specifications and with generic industry guidance (NUREG-1432), where applicable.

The proposed changes will have no adverse effect on plant operation or equipment important to safety. The plant response to the design basis accidents will not change and the accident mitigation equipment will continue to function as assumed in the design basis accident analyses. Therefore, there will be no significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By August 31, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Ms. L. M. Cuoco, Senior Nuclear Counsel, Northeast Utilities Service Company, P.O. Box 270, Hartford, CT 06141-0270, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated February 1, 2000, as supplemented on June 1 and July 13, 2000, which are available for public inspection at the Commission's Public Document Room, the Gelman Building, 2120 L Street, NW., Washington, DC, and accessible electronically through the ADAMS Public Electronic Reading Room link at the NRC Web site (http://www.nrc.gov).

Dated at Rockville, Maryland, this 26th day of July, 2000.
For the Nuclear Regulatory Commission.
Jacob I. Zimmerman,
Project Manager, Project Directorate I, Division of Licensing Project Management, Office of Nuclear Reactor Regulation.

[FR Doc. 00-19247 Filed 7-28-00; 8:45 am]

BILLING CODE 7590-01-P